DEPARTMENT OF DEFENSE

Office of the Secretary

National Security Education Board Members Meeting

AGENCY: Under Secretary of Defense Personnel and Readiness, DoD.

ACTION: Notice of meeting.

SUMMARY: Pursuant to Public Law 92-463, notice is hereby given of a forthcoming meeting of the National Security Education Board. The purpose of the meeting is to review and make recommendations to the Secretary of Defense concerning requirements established by the David L. Boren National Security Education Act, Title VII of Public Law 102-183, as amended.

DATES: September 6, 2012, from 12 p.m. to 5 p.m.

ADDRESSES: Defense Language and National Security Education Office, 1101 Wilson Boulevard, Suite 1210, Arlington, VA 22209.

FOR FURTHER INFORMATION CONTACT: Ms. Alison Patz, Program Analyst, Defense Language and National Security Education Office (DLNSEO), 1101 Wilson Boulevard, Suite 1210, Rosslyn, Virginia 22209-2248; (703) 696-1991. Electronic mail address: Alison.patz@wso.whs.mil.

SUPPLEMENTARY INFORMATION: The National Security Education Board Members meeting is open to the public. The public is afforded the opportunity to submit written statements associated with DLNSEO.

Dated: August 10, 2012.
Aaron Siegel,
Alternate OSD Federal Register Liaison Officer, Department of Defense.

[FR Doc. 2012-20152 Filed 8-15-12; 8:45 am]

BILLING CODE 5001-06-P